Title 3—

The President

Proclamation 7990 of March 23, 2006

Small Business Week, 2006

By the President of the United States of America

A Proclamation

The entrepreneurial spirit of America is robust and strong, and small businesses are thriving throughout our great Nation. The opportunity to own a business is an important part of the American dream. During Small Business Week, we celebrate small business owners and employees who are willing to take risks and work hard in pursuit of a better life for themselves and their families.

Our economy has created almost 5 million jobs since August 2003. Small businesses create most new jobs in our country, and small businesses have been a driving force behind America's tremendous economic growth and job creation. By adopting sound economic policies that help small businesses continue to grow and expand, we will keep our economy moving forward and create more jobs for American workers.

My Administration remains committed to fostering an environment where innovation succeeds and small businesses can flourish. We are working with the Congress to make the tax relief permanent and to pass Association Health Plans to allow small businesses to join together and buy insurance at the same discounts big businesses receive. We are encouraging small business owners and employees to consider health savings accounts, which help small businesses provide health insurance for their workers and give consumers greater flexibility in how they spend their dollars. We also are continuing to work to open new markets for American products and services abroad. Putting a stop to the frivolous lawsuits that drive up the cost of doing business will further help small businesses enhance the quality of life for their employees and their communities.

During Small Business Week, and throughout the year, we applaud the men and women who own and operate small businesses and spur economic growth. Through their entrepreneurial spirit and commitment to excellence, they help ensure that America remains a place where dreams are realized.

NOW, THEREFORE, I, GEORGE W. BUSH, President of the United States of America, by virtue of the authority vested in me by the Constitution and laws of the United States, do hereby proclaim April 9 through April 15, 2006, as Small Business Week. I call upon the people of the United States to observe this week with appropriate ceremonies, activities, and programs that celebrate the achievements of small business owners and their employees and encourage the development of new small businesses.

IN WITNESS WHEREOF, I have hereunto set my hand this twenty-third day of March, in the year of our Lord two thousand six, and of the Independence of the United States of America the two hundred and thirtieth.

B

[FR Doc. 06-3044

Filed 3-27-06; 8:45 am]

Billing code 3195-01-P